GENERAL SERVICES ADMINISTRATION

[FMR Bulletin 2003-B4]

Federal Management Regulation; Redesignations of Federal Buildings

AGENCY: Public Buildings Service (P), GSA.

ACTION: Notice of a bulletin.

SUMMARY: The attached bulletin announces the redesignations of eleven (11) Federal Buildings.

EXPIRATION DATE: This bulletin expires October 28, 2003.

However, the building redesignations announced by this bulletin will remain in effect until canceled or superseded.

FOR FURTHER INFORMATION CONTACT: Paul Chistolini, General Services Administration, Public Buildings Service (P), Washington, DC 20405; telephone (202) 501-1100, e-mail, paul.chistolini@gsa.gov.

Dated: June 23, 2003.
Stephen A. Perry,
Administrator of General Services.

General Services Administration

[FMR Bulletin 2003-B4]

Federal Management Regulation; Redesignations of Federal Buildings

To: Heads of Federal Agencies

Subject: Redesignations of Federal Buildings

1. What is the purpose of this bulletin? This bulletin announces the redesignations of 11 Federal Buildings.

2. When does this bulletin expire? This bulletin expires October 28, 2003. However, the building redesignations announced by this bulletin will remain in effect until canceled or superseded.

3. Redesignations. The former and new names of the buildings being redesignated are as follows:

Former name | New name
Federal Building, 5500 Veterans Drive, Charlotte Amalie, VI 00801 | Ron de Lugo Federal Building, 5500 Veterans Drive, Charlotte Amalie, VI 00801
Federal Building, 143 West Liberty Street, Medina, OH 44256 | Donald J. Pease Federal Building, 143 West Liberty Street, Medina, OH 44256
Federal Building and United States Courthouse, 501 Bell Street, Alton, IL 62002 | William L. Beatty Federal Building and United States Courthouse, 501 Bell Street Alton, IL 62002
Federal Building and United States Courthouse, 400 North Main Street, Butte, MT 59701 | Mike Mansfield Federal Building and United States Courthouse, 400 North Main Street, Butte, MT 59701
Federal Building and United States Courthouse, 2015 15th Street, Gulfport, MS 39501 | Judge Dan M. Russell, Jr. Federal Building and United States Courthouse, 2015 15th Street Gulfport, MS 39501
United States Courthouse, 100 Federal Plaza, Central Islip, NY 11722 | Alfonse M. D'Amato United States Courthouse, 100 Federal Plaza, Central Islip, NY 11722
Federal Building and United States Courthouse, 10 East Commerce Street, Youngstown, OH 44503 | Nathaniel R. Jones Federal Building and United States Courthouse, 10 East Commerce Street, Youngstown, OH 44503
United States Courthouse, 600 West Capitol Avenue, Little Rock, AR 72201 | Richard Sheppard Arnold United States Courthouse, 600 West Capitol Avenue, Little Rock, AR 72201
United States Courthouse, 501 West 10th Street, Ft. Worth, TX 76102 | Eldon B. Mahon United States Courthouse, 501 West 10th Street, Ft. Worth, TX 76102
Memorial Building, 1244 Speer Boulevard, Denver, CO 80204 | Cesar E. Chavez Memorial Building, 1244 Speer Boulevard, Denver, CO 80204
Federal Building, 290 Broadway, New York, NY 10007 | Ted Weiss Federal Building, 290 Broadway, New York, NY 10007

4. Who should we contact for further information regarding redesignations of these Federal Buildings?

General Services Administration, Public Buildings Service, Office of the Commissioner, Attn: Paul Chistolini, 1800 F Street, NW., Washington, DC 20405. Telephone Number: (202) 501-1100, E-mail Address: paul.chistolini@gsa.gov

[FR Doc. 03-19426 Filed 7-29-03; 8:45 am]

BILLING CODE 6820-23-P